ENVIRONMENTAL PROTECTION AGENCY

[EPA-HQ-OPP-2015-0452; FRL-9951-71]

Product Cancellation Order for Certain Pesticide Registrations and Amendment To Terminate a Certain Use

AGENCY: Environmental Protection Agency (EPA).

ACTION: Notice.

SUMMARY: This notice announces EPA's order for the cancellations and amendment to terminate a certain use, voluntarily requested by the registrants and accepted by the Agency, of products containing the pesticides listed in Tables 1 and 2 of Unit II, pursuant to the Federal Insecticide, Fungicide, and Rodenticide Act (FIFRA). This cancellation order follows a July 21, 2016 Federal Register Notice of Receipt of Requests from the registrants listed in Table 3 of Unit II. to voluntarily cancel these product registrations, as well as to amend a registration to terminate a certain use of a product. In the July 21, 2016 Notice, EPA indicated that it would issue an order implementing the cancellations and amendment to terminate a certain use, unless the Agency received substantive comments within the 30 day comment period that would merit its further review of these requests, or unless the registrants withdrew their requests within this period. The Agency received one comment on the notice from a registrant to withdraw one cancellation request. Accordingly, EPA hereby issues in this notice a cancellation order granting the requested cancellations and amendment to terminate a certain use. Any distribution, sale, or use of the products subject to this cancellation order is permitted only in accordance with the terms of this order, including any existing stocks provisions.

DATES: The cancellations are effective September 21, 2016.

FOR FURTHER INFORMATION CONTACT: Rachel Ricciardi, Antimicrobials Division (7510P), Office of Pesticide Programs, Environmental Protection Agency, 1200 Pennsylvania Ave. NW., Washington, DC 20460-0001; telephone number: (703) 347-0465; email address: ricciardi.rachel@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2015-0452, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces EPA's order for the cancellation and amendment to terminate a certain use, as requested by registrants, of products registered under FIFRA section 3 (7 U.S.C. 136a). These registrations are listed in sequence by registration number in Tables 1 and 2 of this unit. Also, the following registration numbers that were listed in the July 21, 2016 notice (81 FR 47381) (FRL-9948-85), have already been cancelled because the required maintenance fees were not paid and are therefore not listed in this notice: 211-40, 211-50, 875-194, 1022-592, 1043-19, 1043-77, 4313-93, 5736-61, 5736-104, 5736-105, 5736-106, 6198-11, 7405-39, 8155-12, 8155-17, 8155-19, 8155-22, 8155-23, 8155-24, 9886-2, 9886-4, 9886-10, 9886-12, 9886-16, 9886-17, 11668-10, 11668-13, 11694-88, 15136-10, 15300-8, 41550-1, 47033-12, 49827-2, 51219-1, 51219-3, 51219-4, 58044-3, 66243-3, 70627-10, 70627-21, 70627-55, 84398-1, and 86130-5.

Table 1—Product Cancellations
Registration No. | Product name | Active ingredient
498-197 | Spray Disinfectant | Alkyl* dimethyl ethylbenzyl ammonium chloride *(68%C12, 32%C14); Alkyl* dimethyl benzyl ammonium chloride *(60%C14, 30%C16, 5%C18, 5%C12); and Ethanol.
777-44 | Lysol Deodorizing Cleaner | Alkyl* dimethyl benzyl ammonium chloride *(50%C14, 40%C12, 10%C16).
1258-1275 | A-Breeze Solid PHMB | Poly(iminoimidocarbonyliminoimidocarbonyliminohexamethylene) hydrochloride.
1258-1277 | Vantocil S Microbiocide | Poly(iminoimidocarbonyliminoimidocarbonyliminohexamethylene) hydrochloride.
1258-1325 | Baquacide 795 Swimming Pool Algicide | 1-Decanaminium, N-decyl-N,N-dimethyl-, chloride.
1459-72 | Bullen Ready To Use Disinfectant | Alkyl* dimethyl benzyl ammonium chloride *(60%C14, 30%C16, 5%C18, 5%C12) and Alkyl* dimethyl ethylbenzyl ammonium chloride *(68%C12, 32%C14).
1677-205 | A-215 | Glutaraldehyde.
1677-206 | A-245 | Glutaraldehyde.
1839-85 | Aerosol Surface Disinfectant | Alkyl* dimethyl benzyl ammonium chloride *(60%C14, 30%C16, 5%C18, 5%C12); Alkyl* dimethyl ethylbenzyl ammonium chloride *(68%C12, 32%C14); and Isopropyl alcohol.
1839-102 | CD 4.5 (D & F) | Alkyl* dimethyl ethylbenzyl ammonium chloride *(68%C12, 32%C14) and Alkyl* dimethyl benzyl ammonium chloride *(60%C14, 30%C16, 5%C18, 5%C12).
1839-112 | PT 4.0 Pine Scent Disinfectant/Detergent | Alkyl* dimethyl benzyl ammonium chloride *(60%C14, 30%C16, 5%C18, 5%C12); Alkyl* dimethyl ethylbenzyl ammonium chloride *(68%C12, 32%C14); and Pine Oil.
1839-128 | BTC 99 | 1-Decanaminium, N-decyl-N,N-dimethyl-, chloride.
1839-138 | 10% BTC 99 Industrial Water Cooling Tower Algaecide | 1-Decanaminium, N-decyl-N,N-dimethyl-, chloride.
1839-188 | Aerosol SDAS | Alkyl* dimethyl benzyl ammonium chloride *(60%C14, 30%C16, 5%C18, 5%C12); Isopropyl alcohol; Triethylene glycol; and Alkyl* dimethyl ethylbenzyl ammonium chloride *(68%C12, 32%C14).
2296-102 | NAC Pine Odor Disinfectant | Pine oil and 2-Benzyl-4-chlorophenol.
2296-104 | NACA Pine Oil Disinfectant | Pine oil.
2296-105 | Pine-Act | Pine oil and 2-Benzyl-4-chlorophenol.
2296-112 | Mint Quat | 1-Decanaminium, N-decyl-N,N-dimethyl-, chloride and Alkyl* dimethyl benzyl ammonium chloride *(50%C14, 40%C12, 10%C16).
3573-69 | Z-1 | 1-Decanaminium, N-decyl-N,N-dimethyl-, chloride.
3573-74 | Cougar | 1-Decanaminium, N-decyl-N,N-dimethyl-, chloride and Chlorhexidine diacetate.
3862-11 | Pine Odor Disinfectant | Pine oil and Sodium 2-benzyl-4-chlorophenate.
3862-76 | Lemon DS-32 | Alkyl* dimethyl benzyl ammonium chloride *(60%C14, 30%C16, 5%C18, 5%C12) and Alkyl* dimethyl ethylbenzyl ammonium chloride *(50%C12, 30%C14, 17%C16, 3%C18).
4822-554 | AD-SS-06 | 1-Decanaminium, N-decyl-N,N-dimethyl-, chloride.
5741-16 | PSQ Disinfectant Cleaner | 1-Decanaminium, N,N-dimethyl-N-octyl-, chloride; 1-Octanaminium, N,N-dimethyl-N-octyl-, chloride; 1-Decanaminium, N-decyl-N,N-dimethyl-, chloride; and Alkyl* dimethyl benzyl ammonium chloride *(50%C14, 40%C12, 10%C16).
5813-28 | Pine-Sol | Pine oil.
5813-33 | Clean-O-Pine Cone Concentrated Disinfectant | Pine oil.
5813-36 | Pine Sol Cleaner Disinfectant | Pine oil.
5813-41 | Clorox Pine Oil | Pine oil.
5813-54 | Pine-Sol Cleaner Disinfectant 1 | Pine oil.
5813-56 | Pine-Sol Cleaner Disinfectant 6 | Pine oil.
5813-83 | Clorox Losenip | Pine oil.
6243-3 | Auto-chlor DS-33 | Alkyl* dimethyl benzyl ammonium chloride *(50%C14, 40%C12, 10%C16).
6718-24 | Amway Pursue Disinfectant Cleaner | 1-Decanaminium, N-decyl-N,N-dimethyl-, chloride.
6836-18 | Bardac-22 | 1-Decanaminium, N-decyl-N,N-dimethyl-, chloride.
6836-19 | Bardac-20 | 1-Decanaminium, N,N-dimethyl-N-octyl-, chloride; 1-Octanaminium, N,N-dimethyl-N-octyl-, chloride; and 1-Decanaminium, N-decyl-N,N-dimethyl-, chloride.
6836-28 | Lonza Disinfectant Cleaner (19-A) | 1-Decanaminium, N-decyl-N,N-dimethyl-, chloride.
6836-30 | Lonza Mildew Preventative | 1-Decanaminium, N-decyl-N,N-dimethyl-, chloride.
6836-41 | Lonza Mildew Preventative B-20 | 1-Decanaminium, N,N-dimethyl-N-octyl-, chloride; 1-Decanaminium, N-decyl-N,N-dimethyl-, chloride; and 1-Octanaminium, N,N-dimethyl-N-octyl-, chloride.
6836-48 | Bardac 2250-7.5 | 1-Decanaminium, N-decyl-N,N-dimethyl-, chloride.
6836-68 | Bardac 20W | 1-Decanaminium, N,N-dimethyl-N-octyl-, chloride; 1-Decanaminium, N-decyl-N,N-dimethyl-, chloride; and 1-Octanaminium, N,N-dimethyl-N-octyl-, chloride.
6836-74 | Lonza Formulation S-39 | 1-Decanaminium, N,N-dimethyl-N-octyl-, chloride; 1-Decanaminium, N-decyl-N,N-dimethyl-, chloride; 1-Octanaminium, N,N-dimethyl-N-octyl-, chloride; and Alkyl* dimethyl benzyl ammonium chloride *(50%C14, 40%C12, 10%C16).
6836-87 | Lonza DC-102 Quaternary Pine Oil | 1-Decanaminium, N,N-dimethyl-N-octyl-, chloride; 1-Octanaminium, N,N-dimethyl-N-octyl-, chloride; 1-Decanaminium, N-decyl-N,N-dimethyl-, chloride; Alkyl* dimethyl benzyl ammonium chloride *(50%C14, 40%C12, 10%C16); and Pine oil.
6836-89 | 205M Sanitizer | 1-Decanaminium, N,N-dimethyl-N-octyl-, chloride; 1-Octanaminium, N,N-dimethyl-N-octyl-, chloride; 1-Decanaminium, N-decyl-N,N-dimethyl-, chloride; and Alkyl* dimethyl benzyl ammonium chloride *(50%C14, 40%C12, 10%C16).
6836-108 | Lonza Carpet Sanitizer CS-202 | 1-Decanaminium, N,N-dimethyl-N-octyl-, chloride; 1-Decanaminium, N-decyl-N,N-dimethyl-, chloride; 1-Octanaminium, N,N-dimethyl-N-octyl-, chloride; and Alkyl* dimethyl benzyl ammonium chloride *(50%C14, 40%C12, 10%C16).
6836-163 | Bio-Quat 50-MAB | Alkyl* dimethyl ethyl ammonium bromide *(90% C14, 5% C16, 5% C12).
6836-167 | Bio-Guard M-7 Disinfectant | Alkyl* dimethyl benzyl ammonium chloride *(58%C14, 28%C16, 14%C12).
6836-204 | Lonza Formulation DC-110N | 1-Decanaminium, N-decyl-N,N-dimethyl-, chloride.
6836-205 | Lonza Formulation DC-108N | 1-Decanaminium, N-decyl-N,N-dimethyl-, chloride.
6836-206 | Lonza Formulation DC-109N | 1-Decanaminium, N-decyl-N,N-dimethyl-, chloride.
6836-231 | Jordaquat 358 | Alkyl* dimethyl benzyl ammonium chloride *(50%C14, 40%C12, 10%C16).
6836-267 | Lonza Formulation DCN 400-256 | 1-Decanaminium, N-decyl-N,N-dimethyl-, chloride.
6836-268 | Lonza Formulation DCN 400-128 | 1-Decanaminium, N-decyl-N,N-dimethyl-, chloride.
6836-269 | Lonza Formulation DCN 400-64 | 1-Decanaminium, N-decyl-N,N-dimethyl-, chloride.
7124-39 | Pool Brite Winterizer | Alkyl* dimethyl benzyl ammonium chloride *(60%C14, 30%C16, 5%C18, 5%C12); Dialkyl* methyl benzyl ammonium chloride *(60%C14, 30%C16, 5%C18, 5%C12); and EDTA, copper salt.
7124-105 | Poly Clear | Poly(iminoimidocarbonyliminoimidocarbonyliminohexamethylene) hydrochloride.
7364-37 | Green Algae Treatment | 1-Decanaminium, N-decyl-N,N-dimethyl-, chloride.
9613-5 | Crystal—Aqua Swimming Pool Algaecide | Alkyl* dimethyl benzyl ammonium chloride *(60%C14, 25%C12, 15%C16).
9613-13 | Bison SP-5 Swimming Pool Algaecide | Alkyl* dimethyl benzyl ammonium chloride *(60%C14, 25%C12, 15%C16).
9688-287 | Chemsico Insecticide RTU LG | o-Phenylphenol, sodium salt and lambda-Cyhalothrin.
10088-101 | Bafix Germicidal Spray and Wipe Bathroom Cleaner | Alkyl* dimethyl ethylbenzyl ammonium chloride *(50%C12, 30%C14, 17%C16, 3%C18) and Alkyl* dimethyl benzyl ammonium chloride *(60%C14, 30%C16, 5%C18, 5%C12).
10088-102 | Wint Mint Disinfectant | Alkyl* dimethyl ethylbenzyl ammonium chloride *(50%C12, 30%C14, 17%C16, 3%C18) and Alkyl* dimethyl benzyl ammonium chloride *(60%C14, 30%C16, 5%C18, 5%C12).
10324-20 | Maquat LC-12S-10% | Alkyl* dimethyl benzyl ammonium chloride *(67%C12, 25%C14, 7%C16, 1%C18).
10324-39 | Maquat MQ2525M-P40 | Alkyl* dimethyl ethylbenzyl ammonium chloride *(68%C12, 32%C14) and Alkyl* dimethyl benzyl ammonium chloride *(60%C14, 30%C16, 5%C18, 5%C12).
10324-49 | Maquat LC12-50% | Alkyl* dimethyl benzyl ammonium chloride *(67%C12, 25%C14, 7%C16, 1%C8, C10, and C18).
10324-64 | Maquat 3.8-MN | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-65 | Maquat 80 | Alkyl* dimethyl ethylbenzyl ammonium chloride *(68%C12, 32%C14) and Alkyl* dimethyl benzyl ammonium chloride *(60%C14, 30%C16, 5%C18, 5%C12).
10324-68 | Maquat TC76-50% P | Dialkyl* methyl benzyl ammonium chloride *(60%C14, 30%C16, 5%C18, 5%C12) and Alkyl* dimethyl benzyl ammonium chloride *(60%C14, 30%C16, 5%C18, 5%C12).
10324-73 | Maquat MQ615-CT | 1-Decanaminium, N-decyl-N,N-dimethyl-, chloride; 1-Octanaminium, N,N-dimethyl-N-octyl-, chloride; 1-Decanaminium, N,N-dimethyl-N-octyl-, chloride; and Alkyl* dimethyl benzyl ammonium chloride *(50%C14, 40%C12, 10%C16).
10324-76 | Maquat MC6025-10% | Alkyl* dimethyl benzyl ammonium chloride *(60%C14, 25%C12, 15%C16).
10324-77 | Maquat 50-CT | Alkyl* dimethyl ethylbenzyl ammonium chloride *(68%C12, 32%C14) and Alkyl* dimethyl benzyl ammonium chloride *(60%C14, 30%C16, 5%C18, 5%C12).
10324-78 | Maquat 75 | Dialkyl* methyl benzyl ammonium chloride *(60%C14, 30%C16, 5%C18, 5%C12) and Alkyl* dimethyl benzyl ammonium chloride *(60%C14, 30%C16, 5%C18, 5%C12).
10324-79 | Maquat 3.8-M | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-82 | Maquat 1.8-M | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-83 | Maquat 7.0-M | 1-Decanaminium, N-decyl-N,N-dimethyl-, chloride; 1-Octanaminium, N,N-dimethyl-N-octyl-, chloride; 1-Decanaminium, N,N-dimethyl-N-octyl-, chloride; and Alkyl* dimethyl benzyl ammonium chloride *(50%C14, 40%C12, 10%C16).
10324-84 | Maquat 2.5-M | 1-Decanaminium, N-decyl-N,N-dimethyl-, chloride; 1-Octanaminium, N,N-dimethyl-N-octyl-, chloride; 1-Decanaminium, N,N-dimethyl-N-octyl-, chloride; and Alkyl* dimethyl benzyl ammonium chloride *(50%C14, 40%C12, 10%C16).
10324-86 | Maquat 2.56-M | 1-Decanaminium, N-decyl-N,N-dimethyl-, chloride; 1-Octanaminium, N,N-dimethyl-N-octyl-, chloride; Alkyl* dimethyl benzyl ammonium chloride *(50%C14, 40%C12, 10%C16); and 1-Decanaminium, N,N-dimethyl-N-octyl-, chloride.
10324-90 | Maquat LC12S | Alkyl* dimethyl benzyl ammonium chloride *(67%C12, 25%C14, 7%C16, 1%C18).
10324-102 | Maquat MQ2525M-10% S&W | Alkyl* dimethyl ethylbenzyl ammonium chloride *(68%C12, 32%C14) and Alkyl* dimethyl benzyl ammonium chloride *(60%C14, 30%C16, 5%C18, 5%C12).
10324-109 | Maquat 615-LR | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-118 | Maquat 256 EBC | Alkyl* dimethyl ethylbenzyl ammonium chloride *(68%C12, 32%C14) and Alkyl* dimethyl benzyl ammonium chloride *(60%C14, 30%C16, 5%C18, 5%C12).
10324-119 | Maquat 128 EBC | Alkyl* dimethyl ethylbenzyl ammonium chloride *(68%C12, 32%C14) and Alkyl* dimethyl benzyl ammonium chloride *(60%C14, 30%C16, 5%C18, 5%C12).
10324-120 | Maquat 64 EBC | Alkyl* dimethyl ethylbenzyl ammonium chloride *(68%C12, 32%C14) and Alkyl* dimethyl benzyl ammonium chloride *(60%C14, 30%C16, 5%C18, 5%C12).
10324-124 | Pine Odor D-Synfect 7 Disinfectant Cleaner Deodorant | Pine oil and Alkyl* dimethyl benzyl ammonium chloride *(58%C14, 28%C16, 14%C12).
10324-131 | Maquat A | 1-Decanaminium, N-decyl-N,N-dimethyl-, chloride; 1-Octanaminium, N,N-dimethyl-N-octyl-, chloride; 1-Decanaminium, N,N-dimethyl-N-octyl-, chloride; and Alkyl* dimethyl benzyl ammonium chloride *(50%C14, 40%C12, 10%C16).
10324-134 | Maquat 256-1010N | 1-Decanaminium, N-decyl-N,N-dimethyl-, chloride.
10324-143 | Maquat 10-B | Alkyl* dimethyl ethylbenzyl ammonium chloride *(68%C12, 32%C14) and Alkyl* dimethyl benzyl ammonium chloride *(60%C14, 30%C16, 5%C18, 5%C12).
10324-144 | Maquat 256 MN-FCS | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-146 | Maquat 128-1010N | 1-Decanaminium, N-decyl-N,N-dimethyl-, chloride.
10324-147 | Maquat 64-1010N | 1-Decanaminium, N-decyl-N,N-dimethyl-, chloride.
10324-163 | Maquat 12 MN | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-168 | Maquat 615 SRTU-200 | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-170 | Maquat 64-PDX | Alkyl* dimethyl ethylbenzyl ammonium chloride *(68%C12, 32%C14) and Alkyl* dimethyl benzyl ammonium chloride *(60%C14, 30%C16, 5%C18, 5%C12).
10324-171 | Maquat 128-PD-X | Alkyl* dimethyl ethylbenzyl ammonium chloride *(68%C12, 32%C14) and Alkyl* dimethyl benzyl ammonium chloride *(60%C14, 30%C16, 5%C18, 5%C12).
10324-172 | Maquat 128-X | Alkyl* dimethyl ethylbenzyl ammonium chloride *(68%C12, 32%C14) and Alkyl* dimethyl benzyl ammonium chloride *(60%C14, 30%C16, 5%C18, 5%C12).
10324-173 | Maquat 64-X | Alkyl* dimethyl ethylbenzyl ammonium chloride *(68%C12, 32%C14) and Alkyl* dimethyl benzyl ammonium chloride *(60%C14, 30%C16, 5%C18, 5%C12).
10324-179 | Maquat 32 MN-FCS | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-180 | Maquat 64 MN-FCS | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-181 | Maquat 128 MN-FCS | 1-Decanaminium, N-decyl-N,N-dimethyl-, chloride; 1-Decanaminium, N,N-dimethyl-N-octyl-, chloride; 1-Octanaminium, N,N-dimethyl-N-octyl-, chloride; and Alkyl* dimethyl benzyl ammonium chloride *(50%C14, 40%C12, 10%C16).
10324-183 | Maquat Deter Antimicrobial Agent | Alkyl* dimethyl ethylbenzyl ammonium chloride *(68%C12, 32%C14) and Alkyl* dimethyl benzyl ammonium chloride *(60%C14, 30%C16, 5%C18, 5%C12).
10324-189 | Maquat 21.3-NHQ | 1-Decanaminium, N-decyl-N,N-dimethyl-, chloride and Alkyl* dimethyl benzyl ammonium chloride *(50%C14, 40%C12, 10%C16).
10324-190 | Maquat 14.0-M | 1-Decanaminium, N-decyl-N,N-dimethyl-, chloride; Alkyl* dimethyl benzyl ammonium chloride *(50%C14, 40%C12, 10%C16); 1-Decanaminium, N,N-dimethyl-N-octyl-, chloride; and 1-Octanaminium, N,N-dimethyl-N-octyl-, chloride.
10324-191 | Maquat 3.5-M | 1-Decanaminium, N-decyl-N,N-dimethyl-, chloride; Alkyl* dimethyl benzyl ammonium chloride *(50%C14, 40%C12, 10%C16); 1-Decanaminium, N,N-dimethyl-N-octyl-, chloride; and 1-Octanaminium, N,N-dimethyl-N-octyl-, chloride.
10324-192 | Maquat 1.75-M | 1-Decanaminium, N-decyl-N,N-dimethyl-, chloride; Alkyl* dimethyl benzyl ammonium chloride *(50%C14, 40%C12, 10%C16); 1-Decanaminium, N,N-dimethyl-N-octyl-, chloride; and 1-Octanaminium, N,N-dimethyl-N-octyl-, chloride.
10324-193 | Maquat LC12S-40%-LF | Alkyl* dimethyl benzyl ammonium chloride *(67%C12, 25%C14, 7%C16, 1%C18).
10324-202 | Maquat 25.6-X | Alkyl* dimethyl ethylbenzyl ammonium chloride *(68%C12, 32%C14) and Alkyl* dimethyl benzyl ammonium chloride *(60%C14, 30%C16, 5%C18, 5%C12).
10324-204 | Maquat LC12S-50% EUFC | Alkyl* dimethyl benzyl ammonium chloride *(67%C12, 25%C14, 7%C16, 1%C18).
10324-205 | Maquat LC12S-10%FC | Alkyl* dimethyl benzyl ammonium chloride *(67%C12, 25%C14, 7%C16, 1%C18).
10324-213 | Maquat 7.5-S | 1-Decanaminium, N-decyl-N,N-dimethyl-, chloride; Alkyl* dimethyl benzyl ammonium chloride *(50%C14, 40%C12, 10%C16); 1-Octanaminium, N,N-dimethyl-N-octyl-, chloride; and 1-Decanaminium, N,N-dimethyl-N-octyl-, chloride.
10324-215 | Bol Maid | 1-Decanaminium, N-decyl-N,N-dimethyl-, chloride; 1-Octanaminium, N,N-dimethyl-N-octyl-, chloride; Alkyl* dimethyl benzyl ammonium chloride *(50%C14, 40%C12, 10%C16); 1-Decanaminium, N,N-dimethyl-N-octyl-, chloride; and Hydrochloric acid.
10324-216 | Betco Pull | 1-Decanaminium, N-decyl-N,N-dimethyl-, chloride; 1-Octanaminium, N,N-dimethyl-N-octyl-, chloride; 1-Decanaminium, N,N-dimethyl-N-octyl-, chloride; Alkyl* dimethyl benzyl ammonium chloride *(50%C14, 40%C12, 10%C16); and Hydrochloric acid.
11694-98 | Medaphene Plus Disinfectant Deodorant | o-Phenylphenol and Ethanol.
39967-96 | N-1386 Technical | Bis(trichloromethyl) sulfone.
39967-97 | N-1386 Hexylene Glycol | Bis(trichloromethyl) sulfone.
39967-109 | N-1386 PEG-EU 20 | Bis(trichloromethyl) sulfone.
47371-23 | FMB 210-15 Quat Concentrated Germicide | 1-Decanaminium, N-decyl-N,N-dimethyl-, chloride.
47371-47 | FMB 210-8 Quat | 1-Decanaminium, N-decyl-N,N-dimethyl-, chloride.
47371-52 | HS-210 Mildew Preventative | 1-Decanaminium, N-decyl-N,N-dimethyl-, chloride.
47371-53 | Formulation HS 210-15 | 1-Decanaminium, N-decyl-N,N-dimethyl-, chloride.
47371-59 | FMB 210-100 Quat Concentrated Germicide | 1-Decanaminium, N-decyl-N,N-dimethyl-, chloride.
47371-71 | Huntington FMB 302-8 Quat Concentrated Germicide | 1-Decanaminium, N,N-dimethyl-N-octyl-, chloride; 1-Decanaminium, N-decyl-N,N-dimethyl-, chloride; and 1-Octanaminium, N,N-dimethyl-N-octyl-, chloride.
47371-86 | TB-A23 Disinfectant Bowl Cleaner | 1-Decanaminium, N-decyl-N,N-dimethyl-, chloride and Hydrochloric acid.
47371-87 | TB-A32 Disinfectant Bowl Cleaner | 1-Decanaminium, N-decyl-N,N-dimethyl-, chloride and Hydrochloric acid.
53053-5 | Envirosystems Bioshield 7200 | 1-Octadecanaminium, N,N-dimethyl-N-(3-(trimethoxysilyl)propyl)-, chloride.
53053-6 | Envirosystems Proshield 5000 | 1-Octadecanaminium, N,N-dimethyl-N-(3-(trimethoxysilyl)propyl)-, chloride.
53053-7 | Envirosystems Bioshield 75 | 1-Octadecanaminium, N,N-dimethyl-N-[3-(trihydroxysilyl)propyl], chloride.
53053-8 | Envirosystems Proshield 5000D | 1-Octadecanaminium, N,N-dimethyl-N-(3-(trimethoxysilyl)propyl)-, chloride.
55195-4 | Coldcide 0.25% Disinfecting Wipes | o-Phenylphenol; 4-tert-Amylphenol; and Glutaraldehyde.
60061-78 | NP-1 Plus Sapstain Control Chemical | 1-Decanaminium, N-decyl-N,N-dimethyl-, chloride and Carbamic acid, butyl-, 3-iodo-2-propynyl ester.
67619-15 | Needle | Pine oil.
67619-19 | Snip | Pine oil.
70627-3 | NADBC-101 | Alkyl* dimethyl benzyl ammonium chloride *(60%C14, 30%C16, 5%C18, 5%C12) and Alkyl* dimethyl ethylbenzyl ammonium chloride *(68%C12, 32%C14).
74655-6 | Spectrum RX-38 | Bis(trichloromethyl) sulfone and Methylene bis(thiocyanate).

Table 2—Product Registration Amendment To Terminate a Certain Use
Registration No. | Product name | Active ingredient | Use deleted
39967-107 | N-2000 Antimicrobial | Dodecylguanidine hydrochloride | Disposable diapers.

Table 3 of this unit includes the names and addresses of record for all registrants of the products in Tables 1 and 2 of this unit, in sequence by EPA company number. This number corresponds to the first part of the EPA registration numbers of the products listed in Tables 1 and 2 of this unit.

Table 3—Registrants of Cancelled and Amended Registration
EPA company No. | Company name and address
498 | Chase Products Co., P.O. Box 70, Maywood, IL 60153.
777 | Reckitt Benckiser LLC., 399 Interpace Parkway, Parsippany, NJ 07054.
1258 | Arch Chemicals, Inc., 1200 Bluegrass Lakes Parkway, Alpharetta, GA 30004.
1459 | The Bullen Companies, 1640 Delmar Drive, P.O. Box 37, Folcroft, PA 19032.
1677 | Ecolab, Inc., 370 North Wabasha Street, St. Paul, MN 55102.
1839 | Stepan Company, 22 W. Frontage Road, Northfield, IL 60093.
2296 | National Chemical Laboratories, Inc., 401 N 10th Street, Philadelphia, PA 19123.
3573 | The Proctor & Gamble Company, 5299 Spring Grove Avenue, F&HC PS&RA, Cincinnati, OH 45217.
3862 | ABC Compounding Co, Inc, P.O. Box 16247, Atlanta, GA 30321.
4822 | S.C. Johnson & Son Inc., 1525 Howe Street, Racine, WI 53403.
5741 | Spartan Chemical Company, Inc., 1110 Spartan Drive, Maumee, OH 43537.
5813 | Clorox Co., The, P.O. Box 493, Pleasanton, CA 94566.
6243 | Auto-Chlor System, 746 Poplar Avenue, Memphis, TN 38105.
6718 | Access Business Group International LLC, 7575 E. Fulton Road, MC 50-1A, Ada, MI 49355.
6836 | Lonza Inc., 90 Boroline Road, Allendale, NJ 07401.
7124 | Alden Leeds Inc, 55 Jacobus Avenue, South Kearny, NJ 07032.
7364 | GLB Pool & Spa, 90 Boroline Road, Allendale, NJ 07401.
9613 | Bison Labs Inc., 80 Leslie Street, Buffalo, NY 14211.
9688 | Chemsico, P.O. Box 142642, St. Louis, MO 63114.
10088 | Athea Laboratories Inc, P.O. Box 240014, Milwaukee, WI 53224.
10324 | Mason Chemical Company, 723 W. Algonquin Road, Suite B, Arlington Heights, IL 60005.
11694 | ITW Pro Brands, 805 East Old 56 Highway, Olathe, KS 66061.
39967 | Lanxess Corporation, 111 RIDC Park West Drive, Pittsburgh, PA 15275.
47371 | H&S Chemicals Division, 90 Boroline Road, Allendale, NJ 07401.
53053 | Indusco Ltd., 12733 Director's Loop, Woodbridge, VA 22192.
55195 | Colcide, Inc., 12549 Ansin Circle Drive, Potomac, MD 20854.
60061 | Kop-Coat, Inc, 436 Seventh Avenue, Pittsburgh, PA 15219.
67619 | Clorox Professional Products Co, C/O PS&RC, P.O. Box 493, Pleasanton, CA 94566.
70627 | Diversey, Inc., 8310 16th Street, MS 707, Sturtevant, WI 53177.
74655 | Solenis, LLC., 7910 Baymeadows Way, Suite 100, Jacksonville, FL 32256.

III. Summary of Public Comments Received and Agency Response to Comments

During the public comment period, EPA received one comment. The comment was from Lonza Inc. on behalf of H&S Chemicals Division requesting that EPA Reg. No. 47371-58 be retained because the voluntary cancellation request was made in error. As a result of this comment, the Agency is retaining the registration of EPA Reg. No. 47371-58.

IV. Cancellation Order

Pursuant to FIFRA section 6(f) (7 U.S.C. 136d(f)), EPA hereby approves the requested cancellations and amendment to terminate a certain use of dodecylguanidine hydrochloride (DGH) registration identified in Tables 1 and 2 of Unit II. Accordingly, the Agency orders that the product registrations identified in Tables 1 and 2 of Unit II. are hereby cancelled and amended to terminate the affected use. Any distribution, sale, or use of existing stocks of the products identified in Tables 1 and 2 of Unit II. in a manner inconsistent with any of the Provisions for Disposition of Existing Stocks set forth in Unit VI. will be considered a violation of FIFRA.

V. What is the agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register of July 21, 2016 (81 FR 47381) (FRL-9948-85). The comment period closed on August 22, 2016.

VI. Provisions for Disposition of Existing Stocks

EPA's existing stocks policy published in the Federal Register of June 26, 1991 (56 FR 29362) provides that: “If a registrant requests to voluntarily cancel a registration where the Agency has identified no particular risk concerns, the registrant has complied with all applicable conditions of reregistration, conditional registration, and data call ins, and the registration is not subject to a Registration Standard, Label Improvement Program, or reregistration decision, the Agency will generally permit a registrant to sell or distribute existing stocks for 1 year after the cancellation request was received. Persons other than registrants will generally be allowed to sell, distribute, or use existing stocks until such stocks are exhausted.”

Existing stocks are those stocks of registered pesticide products which are currently in the United States and which were packaged, labeled, and released for shipment prior to the effective date of the cancellation action.

A. For Products 10324-64, 10324-73, 10324-79, 10324-82, 10324-83, 10324-84, 10324-86, 10324-109, 10324-131, 10324-134, 10324-144, 10324-146, 10324-147, 10324-163, 10324-168, 10324-179, 10324-180, 10324-181, 10324-189, 10324-190, 10324-191, 10324-192, 10324-213, 10324-215, and 10324-216

The registrant has requested to the Agency via letter to sell existing stocks for an 18-month period for products 10324-64, 10324-73, 10324-79, 10324-82, 10324-83, 10324-84, 10324-86, 10324-109, 10324-131, 10324-134, 10324-144, 10324-146, 10324-147, 10324-163, 10324-168, 10324-179, 10324-180, 10324-181, 10324-189, 10324-190, 10324-191, 10324-192, 10324-213, 10324-215, and 10324-216. The effective date of this cancellation is September 21, 2016. Because the Agency has identified no significant potential risk concerns associated with these pesticide products, upon cancellation, EPA anticipates allowing registrants to sell and distribute existing stocks of these products until March 21, 2018. Thereafter, registrants will be prohibited from selling or distributing the pesticides identified in Table 1 of Unit II., except for export consistent with FIFRA section 17 (7 U.S.C. 136o) or for proper disposal. Persons other than registrants may sell, distribute, or use existing stocks of these products until existing stocks are exhausted, provided that such sale, distribution, or use is consistent with the terms of the previously approved labeling on, or that accompanied, the canceled products.

B. For All Other Products Identified in Table 1 and Table 2 of Unit II

Because the Agency has identified no significant potential risk concerns associated with these pesticide products, upon cancellation of the products or uses identified in Table 1 and Table 2 of Unit II., EPA anticipates allowing registrants to sell and distribute existing stocks of these products until September 21, 2017. Thereafter, registrants will be prohibited from selling or distributing the pesticides identified in Table 1 and Table 2 of Unit II., except for export consistent with FIFRA section 17 (7 U.S.C. 136o) or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: September 14, 2016.
Steve Knizner,
Director, Antimicrobials Division, Office of Pesticide Programs.

[FR Doc. 2016-22764 Filed 9-20-16; 8:45 am]

BILLING CODE 6560-50-P